NUCLEAR REGULATORY COMMISSION

[Docket No. 50-395; NRC-2023-0152]

Dominion Energy South Carolina, Inc.; Virgil C. Summer Nuclear Station, Unit 1; Final Supplemental Environmental Impact Statement

AGENCY: Nuclear Regulatory Commission.

ACTION: Notice; issuance.

SUMMARY: The U.S. Nuclear Regulatory Commission (NRC) has published a final Supplemental Environmental Impact Statement (SEIS), issued as NUREG-1437, Supplement 15, Second Renewal, to the Generic Environmental Impact Statement (GEIS) for License Renewal of Nuclear Plants, Final Report, regarding the subsequent renewal of Renewed Facility Operating License No. NPF-12 for an additional 20 years for Virgil C. Summer Nuclear Station, Unit 1 (V.C. Summer). V.C. Summer is located in Fairfield County, South Carolina. Possible alternatives to the proposed action of license renewal for V.C. Summer were evaluated and included the no-action alternative and reasonable replacement power alternatives.

DATES: NUREG-1437, Supplement 15, Second Renewal, to the GEIS for License Renewal of Nuclear Plants is available as of May 8, 2025.

ADDRESSES: Please refer to Docket ID NRC-2023-0152 when contacting the NRC about the availability of information regarding this document. You may obtain publicly available information related to this document using any of the following methods:

• Federal Rulemaking Website: Go to https://www.regulations.gov and search for Docket ID NRC-2023-0152. Address questions about Docket IDs in Regulations.gov to Bridget Curran; telephone: 301-415-1003; email: Bridget.Curran@nrc.gov. For technical questions contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. NUREG-1437, Supplement 15, Second Renewal, is available in ADAMS under Accession No. ML25128A160.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of NUREG-1437, Supplement 15, Second Renewal, to the GEIS for License Renewal of Nuclear Plants, Final Report, regarding the proposed subsequent renewal of Renewed Facility Operating License No. NPF-12 for an additional 20 years for V.C. Summer will be available for public review at the Fairfield County Library located at 300 West Washington Street, Winnsboro, South Carolina 29180.

FOR FURTHER INFORMATION CONTACT: Kim Conway, Office of Nuclear Material Safety and Safeguards, U.S. Nuclear Regulatory Commission, Washington, DC 20555-0001; telephone: 301-415-1335; email: Kimberly.Conway@nrc.gov.

SUPPLEMENTARY INFORMATION:

I. Background

In accordance with section 51.118 of title 10 of the Code of Federal Regulations, “Final environmental impact statement—notice of availability,” the NRC is making available to the public, NUREG-1437, Supplement 15, Second Renewal, to the GEIS for License Renewal of Nuclear Plants, Final Report, regarding the subsequent renewal of Renewed Facility Operating License No. NPF-12 for an additional 20 years for V.C. Summer. A notice of availability of the draft SEIS was published in the Federal Register on December 6, 2024 (89 FR 97077). The U.S. Environmental Protection Agency (EPA) issued its Notice of Availability on December 6, 2024 (89 FR 96960). The comment period was originally scheduled to close on January 21, 2025. On January 23, 2025, a notice was published in the Federal Register reopening the public comment period to accommodate a rescheduled public meeting and to provide additional time for members of the public to develop and submit comments (90 FR 8056). On January 31, 2025, the EPA issued a notice of extension of the comment period (90 FR 8715). The public comment period on the draft SEIS ended on February 11, 2025, and the comments received on the draft SEIS are addressed in the final SEIS.

II. Discussion

The draft SEIS was issued for public comment on December 6, 2024. The final SEIS addresses the comments received on the draft SEIS. As discussed in Chapter 4 of the final SEIS, the NRC staff has determined that the adverse environmental impacts of subsequent license renewal for V.C. Summer (i.e., the continued operation of V.C. Summer for a period of 20 years beyond the expiration date of the current renewed operating license) are not so great that preserving the option of subsequent license renewal for energy-planning decision-makers would be unreasonable. This recommendation is based on: (1) information provided in the environmental report, as supplemented, and other documents submitted by Dominion Energy South Carolina, Inc.; (2) consultation with Federal, State, Tribal, and local governmental agencies; (3) the NRC staff's independent environmental review; and (4) consideration of public comments received during the scoping process and on the draft SEIS.

Dated: May 13, 2025.
For the Nuclear Regulatory Commission.
John Moses,
Deputy Director, Division of Rulemaking, Environmental, and Financial Support, Office of Nuclear Material Safety, and Safeguards.

[FR Doc. 2025-08802 Filed 5-15-25; 8:45 am]

BILLING CODE 7590-01-P